DEPARTMENT OF HEALTH AND HUMAN SERVICES

Centers for Disease Control and Prevention

[30 Day-06-05AA]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Early Hearing Detection and Intervention Hearing Screening and Follow-up Survey -New- National Center on Birth Defects and Developmental Disabilities (NCBDDD), Centers for Disease Control and Prevention (CDC).

Background and Brief Description

The National Center on Birth Defects and Developmental Disabilities (NCBDDD) of the Centers for Disease Control and Prevention promotes the health of babies, children, and adults with disabilities. Activities related to addressing hearing loss (HL) among newborns and infants are part of NCBDDD's mission. HL is a common birth defect that affects approximately 12,000 infants across the United States each year, and can result in developmental delays when left undetected. As awareness about infant HL increases, so does the demand for accurate information about incidence, rate of screening, referral to care, and loss to follow-up.

Given the lack of a standardized and readily accessible source of data, CDC's Early Hearing Detection and Intervention (EHDI) program has developed a survey to be used annually for State and Territory EHDI Program Coordinators that utilizes uniform definitions to collect aggregate, standardized EHDI data from states and territories. This information is important for helping to ensure infants and children are receiving recommended screening and follow-up services, documenting the occurrence and etiology of differing degrees of HL among infants, and determining the overall impact of infant HL on future outcomes, such as cognitive development and family dynamics. These data will also assist state EHDI programs with quality improvement activities and provide information that will be helpful in assessing the impact of Federal initiatives. The public will be able to access this information via CDC's EHDI Web site (http://www.cdc.gov/ncbddd/ehdi/). There are no costs to respondents other than their time. The total estimated annualized burden is 209 hours.

Estimated Annualized Burden Hours
Respondents | Number of respondents | Number of responses per respondent | Average burden per response (in hrs.)
States Contacted | 55 | 1 | 10/60
States Completed | 50 | 1 | 4

Dated: June 30, 2006.
Joan F. Karr,
Acting Reports Clearance Officer, Centers for Disease Control and Prevention.

[FR Doc. E6-10621 Filed 7-6-06; 8:45 am]

BILLING CODE 4163-18-P